DEPARTMENT OF THE INTERIOR

Fish and Wildlife Service

Availability of a Habitat Conservation Plan and Receipt of an Application for an Incidental Take Permit for the Westwood Tributary Point Office Project, Sacramento County, California

AGENCY: Fish and Wildlife Service, Interior.

ACTION: Notice of availability and receipt of application.

SUMMARY: Westwood Tributary Point Limited (Applicant) has applied to the Fish and Wildlife Service (Service) for an incidental take permit pursuant to section 10(a)(1)(B) of the Endangered Species Act of 1973, as amended (Act). The Service proposes to issue a 2-year permit to the Westwood Tributary Point Limited that would authorize take of the threatened valley elderberry longhorn beetle (Desmocerus californicus dimorphus) incidental to otherwise lawful activities. Such take would occur as a result of development on the Westwood Tributary Point Office Project area in Sacramento County, California. Development will result in the loss of one elderberry plant with two stems which provide habitat for the valley elderberry longhorn beetle.

We request comments from the public on the permit application, which is available for review. The application includes a Habitat Conservation Plan (Plan). The Plan describes the proposed project and the measures that Westwood Tributary Point Limited would undertake to minimize and mitigate take of the valley elderberry longhorn beetle.

We also request comments on our preliminary determination that the Plan qualifies as a “low-effect” Habitat Conservation Plan, eligible for a categorical exclusion under the National Environmental Policy Act. The basis for this determination is discussed in an Environmental Action Statement, which is also available for public review.

DATES: Written comments should be received on or before October 19, 2000.

ADDRESSES: Send written comments to Mr. Wayne White, Field Supervisor, Fish and Wildlife Service, 2800 Cottage Way, Suite W-2605, Sacramento, California 95825-1846. Comments may be sent by facsimile to 916-414-6712 or 6713.

FOR FURTHER INFORMATION CONTACT: Ms. Vicki Campbell, Chief of Conservation Planning Division, at the above address or call (916) 414-6600.

SUPPLEMENTARY INFORMATION:

Document Availability

Please contact the above office if you would like copies of the application, Plan, and Environmental Action Statement. Documents also will be available for review by appointment, during normal business hours at the above address.

Background

Section 9 of the Endangered Species Act and Federal regulation prohibit the “take” of fish or wildlife species listed as endangered or threatened, respectively. Take of listed fish or wildlife is defined under the Act to include kill, harm, or harass. The Service may, under limited circumstances, issue permits to authorize incidental take; i.e., take that is incidental to, and not the purpose of, the carrying out of an otherwise lawful activity. Regulations governing incidental take permits for threatened and endangered species are found in 50 CFR 17.32 and 17.22, respectively.

The Westwood Tributary Point Office project is located west of Hazel Avenue, south of Folsom South Canal, and north of U.S. Highway 50 in the unincorporated Rancho Cordova area of Sacramento County. The project site is one parcel of a larger development area, which corresponds to an un-sectioned portion of Township 9 North, Range 7 East of the United States Geological Survey “Folsom, California” topographic quadrangle. The Applicant is requesting a 2-year incidental take permit for the valley elderberry longhorn beetle.

The Westwood Tributary Point Office project area is currently a partially graded vacant lot. The applicant plans on erecting a 2-story 37,000-square-foot office building with parking facilities on the 3.43-acre site. Other land uses in the surrounding area include a 216-unit high-end apartment village, a 70,000-square-foot, 3-story office building, 2 retail furniture stores, 2 fast-food restaurants, and 2 gas station/convenience marts. Two additional lots are owned by an extended-stay hotel operator.

One small (6-foot-tall) blue elderberry (Sambucus mexicana) shrub is present on the property. Westwood Tributary Point Limited has submitted a Plan to minimize and mitigate for the removal (transplantation) of this plant, which is potential habitat for the valley elderberry longhorn beetle, federally listed as threatened under the Act. No beetle exit holes were found in this shrub. The project site does not contain any other rare, threatened, or endangered species or habitat. No critical habitat for any listed species occurs on the project site. Construction of the proposed project would result in the removal of one elderberry shrub with two stems greater than 1-inch diameter at ground level.

Under the Plan, compensation for impacts to the valley elderberry longhorn beetle would conform to the Service's 1999 Conservation Guidelines. The elderberry shrub affected by the proposed project would be transplanted to the Conservation Resources Laguna Creek Mitigation Bank, a Service-approved compensation site. Transplantation would occur after September 15, 2000 and prior to February 15, 2001. To fully comply with the Service's conservation guidelines for the transplantation of elderberry shrubs, and to minimize the effects of take on the beetle, Westwood Tributary Point Limited will purchase one valley elderberry longhorn beetle compensation unit at the Laguna Creek Mitigation Bank. Purchase of this compensation unit will result in the planting of five elderberry plants and five associated native plants to compensate for impacts to two stems. The purchase of this compensation unit will be consummated with an agreement for the sale of one valley elderberry longhorn beetle compensation unit between Westwood Tributary Point Limited and Conservation Resources, LLC.

The Service's Proposed Action consists of the issuance of an incidental take permit and implementation of the Plan, which includes measures to minimize and mitigate impacts of the project on the valley elderberry longhorn beetle. Two alternatives to the taking of listed species under the Proposed Action are considered in the Plan. Under the No Action Alternative, no permit would be issued. However, Westwood Tributary Point Limited did not select this alternative as it is inconsistent with local development goals and would result in the undisturbed elderberry shrub being left on the site in an isolated patch of open space with little habitat value. Another alternative would result in the development of another site instead of the described project site. The proposed project is an infill project and has minor or negligible environmental effects. Westwood Tributary Point Limited considers development of the present site as more desirable than construction of the project on an open site in a less-developed area because the use of an alternative site may result in greater environmental effects.

The Service has made a preliminary determination that the Plan qualifies as a “low-effect” plan as defined by its Habitat Conservation Planning Handbook (November 1996). Our determination that a habitat conservation plan qualifies as a low-effect plan is based on the following three criteria: (1) Implementation of the plan would result in minor or negligible effects on federally listed, proposed, and candidate species and their habitats; (2) implementation of the plan would result in minor or negligible effects on other environmental values or resources; and (3) impacts of the plan, considered together with the impacts of other past, present and reasonably foreseeable similarly situated projects would not result, over time, in cumulative effects to environmental values or resources which would be considered significant. As more fully explained in our Environmental Action Statement, Westwood Tributary Point Limited's habitat conservation plan for the Westwood Tributary Point Office Project qualifies as a “low-effect” plan for the following reasons:

1. Approval of the Plan would result in minor or negligible effects on the valley elderberry longhorn beetle and its habitat. The Service does not anticipate significant direct or cumulative effects to the valley elderberry longhorn beetle resulting from development of the Westwood Tributary Point Office Project.

2. Approval of the Plan would not have adverse effects on unique geographic, historic or cultural sites, or involve unique or unknown environmental risks.

3. Approval of the Plan would not result in any cumulative or growth inducing impacts and, therefore, would not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the Plan would not establish a precedent for future action or represent a decision in principle about future actions with potentially significant environmental effects.

The Service therefore has made a preliminary determination that approval of the Plan qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Endangered Species Act. We will evaluate the permit application, the Plan, and comments submitted thereon to determine whether the application meets the requirements of section 10 (a) of the Act. If the requirements are met, the Service will issue a permit to the Westwood Tributary Point for the incidental take of the valley elderberry longhorn beetle from development of the Westwood Tributary Point Office Project area. We will make the final permit decision no sooner than 30 days from the date of this notice.

Dated: September 8, 2000.
Elizabeth H. Stevens,
Deputy Manager, California/Nevada Operations Office, Sacramento, California.

[FR Doc. 00-23970 Filed 9-18-00; 8:45 am]

BILLING CODE 4130-55-P